DEPARTMENT OF ENERGY

Federal Energy Regulatory Commission

[Docket No. EC00-80-000, et al.]

Portland General Electric Company, et al.; Electric Rate and Corporate Regulation Filings

April 27, 2000.

Take notice that the following filings have been made with the Commission:

1. Portland General Electric Company

[Docket No. EC00-80-000]

Take notice that on April 20, 2000, Portland General Electric Company (PGE) filed an application pursuant to Section 203 of the Federal Power Act for authority to sell certain jurisdictional transmission facilities, as more fully set forth in the application, to The Confederated Tribes of the Warm Springs Reservation of Oregon.

A copy of this application has been served upon the Oregon Public Utility Commission.

Comment date: May 22, 2000, in accordance with Standard Paragraph E at the end of this notice.

2. Millennium Power Partners, L.P.

[Docket No. EC00-82-000]

Take notice that on April 24, 2000, Millennium Power Partners, L.P., on behalf of Peach III Power Corporation, Black Hawk II Power Corporation and East Syracuse Generating Company, tendered for filing pursuant an application for approval pursuant to Section 203 of the Federal Power Act, 16 U.S.C. 824b (1994), and Part 33 of the Commission's regulations (18 CFR part 33), for an intra-corporate restructuring.

Comment date: May 24, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-11073 Filed 5-3-00; 8:45 am]

BILLING CODE 6717-01-P